DEPARTMENT OF THE TREASURY

Internal Revenue Service

26 CFR Part 1

[REG-152549-03]

RIN 1545-BC69

Section 179 Elections; Hearing Cancellation

AGENCY: Internal Revenue Service (IRS), Treasury.

ACTION: Cancellation of notice of public hearing on proposed rulemaking.

SUMMARY: This document provides notice of cancellation of public hearing relating to the election to expense the cost of property subject to section 179.

DATES: The public hearing originally scheduled for November 30, 2004, at 10 a.m., is cancelled.

FOR FURTHER INFORMATION CONTACT: Robin R. Jones of the Publications and Regulations Branch, Legal Processing Division at (202) 622-7180 (not a toll-free number).

SUPPLEMENTARY INFORMATION: A notice of proposed rulemaking and notice of public hearing that appeared in the Federal Register on Wednesday, August 4, 2004 (69 FR 47043), announced that a public hearing was scheduled for November 30, 2004, at 10 a.m., in the auditorium. The subject of the public hearing is proposed regulations under section 179 of the Internal Revenue Code. The public comment period for these regulations expired on November 2, 2004. Outlines of oral testimony was due on November 9, 2004.

The notice of proposed rulemaking and notice of public hearing, instructed those interested in testifying at the public hearing to submit an outline of the topics to be addressed. As of Monday, November 15, 2004, no one has requested to speak. Therefore, the public hearing scheduled for November 30, 2004, is cancelled.

Cynthia E. Grigsby,
Acting Chief, Publications and Regulations Branch, Legal Processing Division, Associate Chief Counsel, (Procedure and Administration).

[FR Doc. 04-25650 Filed 11-18-04; 8:45 am]

BILLING CODE 4830-01-P